DEPARTMENT OF THE INTERIOR

National Park Service

[NPS-WASO-NRNHL-12393; PPWOCRADI0, PCU00RP14.R50000]

National Register of Historic Places; Notification of Pending Nominations and Related Actions

Nominations for the following properties being considered for listing or related actions in the National Register were received by the National Park Service before February 16, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 25, 2013. Before including your address, phone number, email address, or other personal identifying information in your comment, you should be aware that your entire comment—including your personal identifying information—may be made publicly available at any time. While you can ask us in your comment to withhold your personal identifying information from public review, we cannot guarantee that we will be able to do so.

Dated: February 20, 2013.
J. Paul Loether,
Chief, National Register of Historic Places/National Historic Landmarks Program.

ALASKA

Matanuska-Susitna Borough-Census Area

Campbell House, (Settlement and Economic Development of Alaska's Matanuska-Susitna Valley MPS), 1540 Inner Springer Loop, Palmer, 13000129

CALIFORNIA

San Diego County

San Diego Athletic Club, 1250 6th Ave., San Diego, 13000130

KANSAS

Marion County

French Frank's Santa Fe Trail Segment, (Santa Fe Trail MPS), Address Restricted, Lehigh, 13000131

Morton County

Santa Fe Trail—Cimarron National Grassland Segment 1, (Santa Fe Trail MPS), 2.0 mi. S. of KS 51 at CO-KS State Line, Elkhart, 13000132

Santa Fe Trail—Cimarron National Grassland Segment 2, (Santa Fe Trail MPS), 1.66 mi. S. of KS 51 & 1 mi. E. of Cty. Rd. 2, Elkhart, 13000133

Santa Fe Trail—Cimarron National Grassland Segment 3, (Santa Fe Trail MPS), FSR-600, E. & W. sides of KS 27, Elkhart, 13000134

Santa Fe Trail—Cimarron National Grassland Segment 4, (Santa Fe Trail MPS), 2.5 mi. E. of KS 27, N. of FSR-600, Elkhart, 13000135

Santa Fe Trail—Cimarron National Grassland Segment 5, (Santa Fe Trail MPS), 7 mi. N. of US 56 along Cty. Rd. 16, Wilburton, 13000136

NEW JERSEY

Burlington County

Jacob's Chapel A.M.E. Church, 311-313 Elbo Ln., Mount Laurel, 13000137

NORTH DAKOTA

Bottineau County

Swedish Zion Lutheran Church, 32 rods from NE. corner of SE. corner T164N, R77W, Sec. 34, Souris, 13000138

A request for removal has been made for the following resources:

TENNESSEE

Carter County

Carriger-Cowan House, E. of Siam, Siam, 79002415

Shelby County

Union Avenue Methodist Episcopal Church, South, 2117 Union Ave., Memphis, 87000399

[FR Doc. 2013-05382 Filed 3-7-13; 8:45 am]

BILLING CODE 4312-51-P